DEPARTMENT OF HOMELAND SECURITY

Coast Guard

[USCG-2004-19106]

National Preparedness for Response Exercise Program (PREP)

AGENCY: Coast Guard, DHS.

ACTION: Notice; request for public comments on PREP triennial exercise schedule for 2005, 2006, and 2007, and PREP Guidelines.

SUMMARY: The Coast Guard, the Research and Special Programs Administration, the Environmental Protection Agency and the Minerals Management Service, in concert with representatives from various State governments, industry, environmental interest groups, and the general public, developed the Preparedness for Response Exercise Program (PREP) Guidelines to reflect the consensus agreement of the entire oil spill response community. This notice announces the PREP triennial cycle, 2005 through 2007, requests comments from the public, and requests industry participants to volunteer for scheduled PREP Area exercises. Additionally, this notice requests comments on issues or concerns related to the PREP.

DATES: Comments and related material must reach the Docket Management Facility on or before November 22, 2004.

ADDRESSES: You may submit comments identified by Coast Guard docket number USCG-2004-19106 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: If you have questions on this notice, or need general information regarding the PREP Program and the schedule, contact Lieutenant Commander Mark Cunningham, Office of Response, Plans and Preparedness Division (G-MOR-2), U.S. Coast Guard Headquarters, telephone 202-267-2877, fax 202-267-4065 or e-mail MCunningham@comdt.uscg.mil. If you have questions on viewing or submitting material to the docket, call Ms. Andrea M. Jenkins, Program Manager, Docket Operations, telephone 202-366-0271.

SUPPLEMENTARY INFORMATION: The Preparedness for Response Exercise Program (PREP) Area exercise schedule and exercise design manuals are available on the Internet at http://www.uscg.mil/hq/nsfweb/nsfcc/prep/prepexercisesked.html. To obtain a hard copy of the exercise design manual, contact Ms. Melanie Barber at the Research and Special Programs Administration, Office of Pipeline Safety, at 202-366-4560. The 2002 PREP Guidelines booklet is available at no cost on the Internet at http://www.uscg.mil/hq/nsfweb/nsfcc/prep/prepexercisesked.html or by writing or faxing the TASC DEPT Warehouse, 33141Q 75th Avenue, Landover, MD 20785, facsimile: 301-386-5394. The stock number of the manual is USCG-X0241. Please indicate the quantity when ordering. Quantities are limited to 10 per order.

Public Participation and Request for Comments

We encourage you to respond to this notice by submitting comments and related materials. All comments received will be posted, without change, to http://dms.dot.gov and will include any personal information you have provided. We have an agreement with the Department of Transportation (DOT) to use the Docket Management Facility. Please see DOT's “Privacy Act” three paragraphs below.

Submitting comments: If you submit a comment, please include your name and address, identify the docket number for this notice (USCG-2004-19106), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this triennial exercise schedule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

In 1994, the Coast Guard (USCG) and the Research and Special Programs Administration (RSPA) of the Department of Transportation, the U.S. Environmental Protection Agency (U.S. EPA), and the Minerals Management Service (MMS) of the Department of Interior, coordinated the development of the National Preparedness for Response Exercise Program (PREP) Guidelines to provide guidelines for compliance with the Oil Pollution Act of 1990 (OPA 90) pollution response exercise requirements (33 U.S.C. 1321(j)). The guiding principles for PREP distinguish between internal and external exercises. Internal exercises are conducted within the plan holder's organization. External exercises extend beyond the plan holder's organization to involve other members of the response community. External exercises are separated into two categories: (1) Area exercises, and (2) Government-initiated unannounced exercises. These exercises are designed to evaluate the entire pollution response mechanism in a given geographic area to ensure adequate response preparedness.

A National Schedule Coordination Committee (NSCC) was established for scheduling these Area exercises. The NSCC is comprised of personnel representing the four Federal regulating agencies—the USCG, U.S. EPA, MMS, and RSPA's Office of Pipeline Safety (OPS). Since 1994, the NSCC has published a triennial schedule of Area exercises. In short, the Area exercises involve the entire response community (Federal, State, local, and industry participants) and therefore, require more extensive planning than other oil spill response exercises. The PREP Guidelines describe all of these exercises in more detail.

PREP Schedule

In the PREP exercise notice for 2004 through 2006 published on October 16, 2003 (68 FR 59627), we provided in Table 1 a lists of the dates and Federal Register cites of past PREP exercise notices.

This notice announces the next triennial schedule of Area exercises. The PREP schedule for calendar years 2005, 2006, and 2007 for Government-Led and Industry-Led Area exercises is available on the Internet at http://www.uscg.mil/hq/nsfweb/nsfcc/prep/PREP_Ex_Schedule_05-07.pdf. If a company wants to volunteer for an Area exercise, a company representative may call either the Coast Guard or EPA On-Scene Coordinator (OSC) where the exercise is scheduled.

PREP Guidelines and Workshop

The NSCC is considering whether or not to hold a public workshop on the state of the PREP. If there are issues or concerns related to the PREP and its Guidelines, please submit your comments using the procedures described under the ADDRESSES section of this notice. If sufficient interest exists, the NSCC may hold a public workshop in calendar year 2005.

Dated: September 14, 2004.
Joseph J. Angelo,
Director of Standards, Marine Safety, Security & Environmental Protection.

[FR Doc. 04-21137 Filed 9-20-04; 8:45 am]

BILLING CODE 4910-15-P